DEPARTMENT OF HEALTH AND HUMAN SERVICES

Indian Health Service

Albuquerque Area Office (GFC), Organization, Functions, and Delegations of Authority

Office of the Area Director (GFC1)

By specific delegation from the Director, Indian Health Service (IHS), the Office of the Area Director, plans, develops, directs and evaluates the area's activities within the framework of IHS policy in pursuit of the IHS mission by: (1) Assuring professional fiscal accountability at all levels within the Albuquerque Area and maximization of revenue generation; (2) assuring all product and service quality is routinely evaluated, with supporting documentation of continuous monitoring and performance improvement; (3) assuring the public health by continuous improvement in preventive activities; and (4) fostering and expecting, accepting no less than maximum effort, in communication and collaboration efforts with IHS and non-IHS sources and sources all within the legal framework of the Agency.

Tribal Support Staff Office

The Tribal Support Staff Office is responsible for four major program activities: (1) Tribal consultation; (2) program planning, analysis, and evaluation methodologies and activities; (3) Public Law 93-638 Indian Self-Determination; and (4) Tribal liaison activities.

Office of Operational Support (GFC2)

The Office of Operational Support is responsible for the overall fiscal accountability of the Albuquerque Area. This includes the supervision and management of: (1) All fiscal and human resources; (2) revenue generation monitoring and accountability; (3) appropriate and timely expenditure of funds; (4) accurate and timely reports; (5) oversees communication with managers responsible for the fiscal health of facilities to which assigned; (6) evaluates fiscal health and resource accountability; (7) provides official financial information relative to any and all Tribal contracting and/or compacting activity; and (8) establishes and directs boards of inquiry to protect all area resources.

Division of Financial Management (GFC21)

The Division of Financial Management role in operational support activities is recognized by: (1) Formulates fiscal budget activities; (2) determines funding amounts available for Tribal share distribution; (3) prepares operating budget authority documents to distribute funds to service units, programs, areas division and Tribal contractors; (4) oversees and consuls on proper cost accounting and cost reporting; (5) oversee the overall accounting, financial reporting, reconciliation and payment functions for the Albuquerque Area and Headquarters West; (6) certifies all travel payments; (7) reconciles with service unites, area office divisions, and the U.S. Treasury; (8) performs internal control reviews for the area; (9) oversees Tribal shares distribution and payments; (10) educates, directs and monitors Tribes working within the IHS accounting processes; (11) communicates and collaborates with Tribes and Tribal groups wishing to use IHS accounting practices within their organization or when necessitated by 638 activity; (12) investigates and collects Federal Medical Care Recovery Act (FMCRA) reimbursements; and (13) oversees Contract Health Services activities in the areas of Catastrophic Health Emergency Fund (CHEF), Fiscal Intermediary contact, field support, training and productivity; and denials and appeals.

Division of Human Resources (GSC22)

The Division of Human Resources: (1) Plans, implements, coordinates, and evaluates civil service and commissioned officer human resources program; (2) develops operating personnel policies, and assures a supportive human resources program which meets the human capital framework of the area; (3) administers operating personnel policies, position classification and pay management, recruitment and staffing, employee relations, labor management, employee development; personnel records and reports; (4) conducts training courses for supervisory and non-supervisory staff; (5) maintains pertinent federal personnel regulation guidelines; (6) serves as principal advisor to the Area Director, Executive Officer, area staff, and service unit staff in matters relating to human resources; (7) keeps current on development of Tribal health activities as they relate to the area human resources program; and (8) establishes, maintains, and promotes liaison with community, Tribal, civic groups, professional organizations, colleges, universities, and other agencies as appropriate.

Division of Contracts (GFC23)

The division of Contracts: (1) Plans, implements, coordinates, and evaluates the area contract program within established requirements and authorities; (2) interprets federal contract, grant and procurement regulations, policies, procedures, and practices; (3) provides technical assistance to Indian Tribes, Indian and urban Indian organizations in the development of activities related to procurement capabilities; (4) maintains the federal procurement regulation manuals and the HHS Grant Administration manuals; (5) provides delegations of authority for service unit procurement; (6) evaluates service unit procurement operations; and (7) keeps abreast of current development of Tribal health activities as they relate to the contract, grant and procurement activity.

Division of Information Management Services (GFC24)

The Division of Information Management Services: (1) Provides advice on area policies and procedures related to data processing, computer software, computer equipment, and telecommunications; (2) provides technical support on data processing services and software applications to the area and service units; (3) assesses area needs for information technology and advises on alternatives; (4) provides training to improve utilization and understanding of information technologies; and (5) works with Headquarters Division of Information Resources (DIR), to design and develop systems that are responsive to area needs; and provides Tribal support through consultation and collaboration of an integrated reporting system.

Office of Clinical Care Programs (GFC3)

The Office of Clinical Care Programs is responsible for the overall effectiveness of direct health care and public health (prevention) programs. This office plans, implements, directs, coordinates and evaluates the patient and community care programs throughout the Albuquerque Area health care system. This office oversees: (1) Planning facilities and patient care; statistical data preparation and interpretation; (2) integrated health systems; (3) medical informatics; (4) epidemiology; (5) contract health program management; (6) clinical nursing; (7) diabetes prevention and treatment; (8) public health nursing; (9) Community Health Representative/Emergency Medical Services Tribal program support and monitoring; (10) behavioral health efficacy; (11) optometry; (12) health care professional recruitment and retention; (13) sets productivity thresholds for professional staff; (14) ascertains costs of services by health care professional; (15) oversees the scholarship program; (16) provides training, recruitment and retention reports and orientation programs; (17) serves as the expert in clinical programs for the Albuquerque Area; and (18) serves as liaison for clinical tort claims, sentinel events and risk management issues.

Albuquerque Area Dental Program (GFC31)

The Albuquerque Area Dental Program is responsible for providing a full range of comprehensive general dental services including the specialty services of a prosthodontist, a periodontist, a pedodontist, and an orthodontist to eligible American Indian and Alaska Native patients. This is a demand care program with emphasis on meeting family needs in a community setting. Preventive and direct care dental services constitute the main thrust of its activities.

Division of Clinical Quality (GFC32)

The Division of Clinical Quality: (1) Coordinates clinical technical assistance that impacts on quality performance and promotes collaboration to improve quality care; (2) oversees the diabetes/public health nursing and clinical nursing programs; behavioral health program; provider recruitment program; and the CHR/EMS program; and (3) provides area-wide technical support in the clinical programs and quality council.

Office of Environmental Health & Engineering (GFC4)

The Office of Environmental Health and Engineering: (1) Administers the area health facilities management, sanitation facilities construction, environmental health services, and the national environmental health support functions; (2) serves as the principal advisor to the Area Director, area staff, and service unit staff on all environmental health matters; (3) coordinates activities to promote a safe and healthful environment in IHS facilities and Indian communities; (4) constructs, improves, extends or otherwise provides essential sanitation facilities for Indian homes and communities; and (5) maintains liaison and coordinates environmental activities with Tribes, area programs, state and local governments, and other outside groups.

Division of Health Facilities (GFC41)

The Division of Health Facilities: (1) Plans, implements, directs, coordinates and evaluates the area health facilities operation and maintenance program; (2) serves as the liaison with Headquarters and Engineering Services in Dallas; (3) provides resource coordination; (4) advises service units on Heating, Ventilation, and Air Conditioning (HVAC) & energy issues; (5) advises the service units on construction & utility issues; (6) plans, designs, constructs, and improves IHS Area health facilities; and (7) plans, coordinates, and evaluates the Biomedical Engineering Program.

Division of Sanitation Facilities Construction (GFC42)

The Division of Sanitation Facilities Construction: (1) Funds construction of water supply and waste disposal facilities for Indian homes and communities; (2) provides professional engineering design and construction services for water supply and waste disposal facilities; (3) assists Tribes with planning and coordination of multi-agency funded sanitation projects; and (4) provides technical consultation and training to improve the operation and maintenance of Tribally owned water supply and waste disposal systems.

Division of Environmental Health Services (GFC43)

The Division of Environmental Health Services: (1) Strives to enhance the health and quality of life of Indian people by eliminating environmentally related disease and injury through sound public health measures; (2) surveys a wide variety of community facilities, such as schools, community buildings, foods service operations, water supply and waste disposal facilities, and makes recommendations for improvement of environmental health deficiencies; (3) provides Institutional Environmental Health Services to comprehensively address Joint Commission on Accreditation of Healthcare Organizations (JCAHO) requirements, as well as Occupational Safety and Health Administration (OSHA), Environmental Protection Agency (EPA) and other mandated health activities; (4) coordinates community injury prevention activities for the Area; and (5) provides technical consultation, assistants and training to Tribes on environmental health topics.

Division of Property and Asset Management (GFC44)

The Division of Property and Asset Management: (1) Manages and controls the area-wide Real Property Program; (2) manages and controls the area Personal Property Program; and (3) the reception and security of the building.

Environmental Health Support Center (GFC45)

The Division of Environmental Health Support provides: (1) Nationwide training and technical support in the areas of environmental health and injury prevention, engineering, management, and facilities operation and maintenance for the IHS; (2) schedules, coordinates and documents Area program reviews and consultations; (3) provides national support and representation on behalf of IHS in interagency workgroups and forums; and (4) coordinates national emergency response activities on behalf of the IHS.

This reorganization shall be effective on December 6, 2005.

Dated: November 28, 2005.
Charles W. Grim,
Assistant Surgeon General, Director, Indian Health Service.

[FR Doc. 05-23659 Filed 12-5-05; 8:45 am]

BILLING CODE 4165-16-M